DEPARTMENT OF THE INTERIOR

Bureau of Land Management

[LLNV952000 L14400000.BJ0000.LXSSF2210000.241A; 13-08807; MO#4500118046 TAS: 14X1109]

Filing of Plats of Survey; NV

AGENCY: Bureau of Land Management, Interior.

ACTION: Notice.

SUMMARY: The purpose of this notice is to inform the public and interested State and local government officials of the filing of Plats of Survey in Nevada.

DATES: Unless otherwise stated filing takes effect at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Amended Plat of Survey of the following described lands was officially filed at the Bureau of Land Management (BLM) Nevada State Office, Reno, Nevada on October 25, 2016:

The amended plat, in one sheet, representing a correction to the plat accepted on September 1, 2016 and officially filed on September 12, 2016, in Township 19 South, Range 62 East, Mount Diablo Meridian, Nevada, under Group No. 959, was accepted on October 17, 2016.

2. The Plat of Survey of the following described lands was officially filed at the Bureau of Land Management (BLM) Nevada State Office, Reno, Nevada on February 15, 2017:

The plat, in five sheets, representing the dependent resurvey of portions of the 1893-1899 U.S. Coast and Geodetic Survey California-Nevada oblique boundary line, the second standard parallel north through a portion of range 21 east, portions of the east boundary and a portion of the subdivisional lines, and the subdivision of certain sections, Township 10 North, Range 21 East, Mount Diablo Meridian, Nevada under Group No. 871, was accepted on January 31, 2017.

3. The Plat of Survey of the following described lands was officially filed at the Bureau of Land Management (BLM) Nevada State Office, Reno, Nevada on February 15, 2017:

The plat, in six sheets, representing the dependent resurvey of the 1893-1899 U.S. Coast and Geodetic Survey California-Nevada oblique boundary line between the 19+1/2 mile corner and the 20+1 mile corner, the second standard parallel north through a portion of range 21 east, portions of the east and north boundaries and a portion of the subdivisional lines, and the subdivision of certain sections, Township 11 North, Range 21 East, Mount Diablo Meridian, Nevada, under Group No. 901, was accepted on February 2, 2017.

4. The Plat of Survey of the following described lands was officially filed at the Bureau of Land Management (BLM) Nevada State Office, Reno, Nevada on March 22, 2017:

The plat, in one sheet, representing the dependent resurvey and the corrective dependent resurvey of a portion of the north boundary and the dependent resurvey of a portion of the subdivisional lines, the subdivision of the section 5, and a metes-and-bounds survey in section 5, Township 15 South, Range 66 East, Mount Diablo Meridian, Nevada, under Group No. 955, was accepted on March 21, 2017. This survey was executed to meet certain administrative needs of the Bureau of Land Management.

5. The Plat of Survey of the following described lands was officially filed at the Bureau of Land Management (BLM) Nevada State Office, Reno, Nevada on March 30, 2017:

The plat, in one sheet, representing the dependent resurvey of a portion of the south boundary, a portion of the subdivisional lines, and Mineral Survey No. 37B, and the subdivision of section 32, Township 45 North, Range 56 East, Mount Diablo Meridian, Nevada, under Group No. 964, was accepted on March 29, 2017. This survey was executed to meet certain administrative needs of the United States Forest Service.

6. The Plat of Survey of the following described lands was officially filed at the Bureau of Land Management (BLM) Nevada State Office, Reno, Nevada on April 25, 2017:

The plat, in four sheets, representing the dependent resurvey of a portion of the subdivisional lines and portions of certain mineral surveys, the subdivision of sections 22 and 23, and the metes-and-bounds survey of the centerline of Nevada State Route 321 through a portion of the NW¼ of section 22, Township 1 North, Range 67 East, Mount Diablo Meridian, Nevada, under Group No. 935, was accepted on April 19, 2017. This survey was executed to meet certain administrative needs of the Bureau of Land Management.

7. The Plat of Survey of the following described lands was officially filed at the Bureau of Land Management (BLM) Nevada State Office, Reno, Nevada on April 26, 2017:

The plat, in one sheet representing the dependent resurvey of a portion of the subdivisional lines and portions of the subdivision-of-section lines of section 7, the further subdivision of section 7 and a metes-and-bounds survey in section 7, Township 15 South, Range 66 East, Mount Diablo Meridian, Nevada, under Group No. 966, was accepted on April 20, 2017. This survey was executed to meet certain administrative needs of the Bureau of Land Management.

8. The Plat of Survey of the following described lands was officially filed at the Bureau of Land Management (BLM) Nevada State Office, Reno, Nevada on May 31, 2017:

The plat, in one sheet, representing the dependent resurvey of a portion of the subdivisional lines and the subdivision of section 17, Township 47 North, Range 56 East, Mount Diablo Meridian, Nevada, under Group No. 963, was accepted on May 26, 2017. This survey was executed to meet certain administration needs of the Bureau of Land Management.

9. The Supplemental Plat of the following described lands was officially filed at the Bureau of Land Management (BLM) Nevada State Office, Reno, Nevada on July 19, 2017:

The supplemental plat, in one sheet, showing amended lotting in section 3, Township 7 South, Range 41 ½ East, Mount Diablo Meridian, Nevada under Group No. 973, was accepted on July 18, 2017. This supplemental plat was prepared to meet certain administration needs of the Bureau of Land Management.

10. The Plats of Survey of the following described lands were officially filed at the Bureau of Land Management (BLM) Nevada State Office, Reno, Nevada on September 28, 2017:

A plat, in two sheets, representing the dependent resurvey of a portion of the west boundary and a portion of the subdivisional lines, and the subdivision of sections 30 and 32, Township 18 South, Range 60 East, Mount Diablo Meridian Nevada, under Group No. 945, was accepted on September 21, 2017. This survey was executed to meet certain administration needs of the Bureau of Land Management and the National Park Service.

A plat, in three sheets, representing the dependent resurvey of a portion of the north boundary, a portion of the subdivisional lines, the subdivision-of-section lines of section 1 and portions of the subdivision-of-section lines of section 3 and 4, the subdivision of section 2, the further subdivision of sections 1 and 3, and metes-and-bounds surveys in sections 1, 2, and 4, Township 19 South, Range 60 East, Mount Diablo Meridian, Nevada, under Group No. 945, was accepted September 21, 2017. This survey was executed to meet certain administration needs of the Bureau of Land Management and the National Park Service.

A plat, in two sheets, representing the dependent resurvey of portions of the west and north boundaries, a portion of the subdivisional lines and portions of the subdivision-of-section lines of sections 6 and 7, the subdivision of sections 4, 5, 8, and 10 and metes-and-bounds surveys in sections 4, 5, 6, 7, and 10, Township 19 South, Range 61 East, Mount Diablo Meridian, Nevada, under Group No. 945, was accepted on September 21, 2017. This survey was executed to meet certain administration needs of the Bureau of Land Management and the National Park Service.

11. The Plat of Survey of the following described lands was officially filed at the Bureau of Land Management (BLM) Nevada State Office, Reno, Nevada on December 21, 2017:

The plat, in one sheet, representing the dependent resurvey of a portion of the subdivision of section 24, the further subdivision of section 24, and a metes-and-bounds survey in section 24, Township 19 South, Range 61 East, Mount Diablo Meridian, Nevada, under Group No. 967, was accepted on December 19, 2017. This survey was executed to meet certain administration needs of the Bureau of Land Management.

12. The Plat of Survey of the following described lands was officially filed at the Bureau of Land Management (BLM) Nevada State Office, Reno, Nevada on January 11, 2018:

The plat, in twelve sheets, representing the dependent resurvey of a portion of the south boundary, a portion of the subdivisional lines and portions of the subdivision-of-section lines of section 31, the subdivision of sections 4 and 8, and metes-and-bounds surveys of the easterly and westerly right-of-way lines of the Nevada Northern Railway Hiline and Mainline, Township 17, North, Range 64 East, Mount Diablo Meridian, Nevada, under Group No. 853 was accepted on January 10, 2018. This survey was executed to meet certain administration needs of the Bureau of Land Management.

The surveys, amended plats, and supplemental plats listed above are now the basic record for describing the lands for all authorized purposes. These records have been placed in the open files in the BLM Nevada State Office and are available to the public as a matter of information. Copies of the surveys and related field notes may be furnished to the public upon payment of the appropriate fees.

Dated: January 31, 2018.
Michael O. Harmening,
Chief Cadastral Surveyor for Nevada.

[FR Doc. 2018-02469 Filed 2-6-18; 8:45 am]

BILLING CODE 4310-HC-P